DEPARTMENT OF EDUCATION

National Assessment Governing Board

Notice of Meeting of the National Assessment Governing Board's Executive Committee

AGENCY: National Assessment Governing Board, U.S. Department of Education.

ACTION: Notice of closed teleconference meeting.

SUMMARY: This notice sets forth the agenda and instructions to submit written comment for an August 29, 2022 closed teleconference meeting of the National Assessment Governing Board's (Governing Board) Executive Committee. This notice provides information to members of the public who may be interested in providing written comments related to the work of the Governing Board. Notice of this meeting is required under section 10(a)(2) of the Federal Advisory Committee Act (FACA). This notice is being published less than 15 days prior to the meeting due to changes in committee leadership necessitating changes in responsibilities with respect to agenda items. The Chair of the Assessment Development committee resigned from the Board on August 9, 2022, and there were subsequent delays in rescheduling the meeting date with updated agenda topics.

DATES: August 29, 2022.

ADDRESSES: The meeting will be conducted via teleconference.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279 (20 U.S.C. 9621). Information on the Governing Board and its work can be found at www.nagb.gov. The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

According to the Assessment Framework Development policy approved at the March 2022 quarterly Board meeting, the Governing Board delegated authority to the Executive Committee to review and approve a final list of science experts to serve on a review panel that will provide feedback on content areas for the National Assessment of Educational Progress (NAEP) Science Framework.

NAEP frameworks provide the blueprint for the content and design of each NAEP assessment. For each framework, the Governing Board works with a committee of subject matter experts, practitioners, and members of the public—including researchers, educators, business leaders, and policymakers—to develop a rich and rigorous set of standards that define what students should know and be able to do in a particular subject. Additional information on how NAEP Frameworks are developed can be found at https://www.nagb.gov/naep/frameworks-overview.html.

Meeting Agenda: On August 29, 2022, the Executive Committee will meet in closed session from 3:30 p.m. to 4:30 p.m. Eastern Time to review and discuss the applicant pool for nominees to serve as members of the Science Panel.

The Science Panel is established to provide content expertise in science by identifying what students should know and be able to do in science. This information will be used to inform the development of the 2028 NAEP Science Assessment at Grade 8. These discussions pertain solely to internal personnel rules and practices of an agency and information of a personal nature where disclosure would constitute a clearly unwarranted invasion of personal privacy. As such, the discussions are protected by exemptions 2 and 6 of the Government in the Sunshine Act, 5 U.S.C. 552b(c).

Public Comment: Written comments may be submitted electronically or in hard copy to the attention of the Executive Officer/Designated Federal Official (see contact information noted above) no later than 5:00 p.m. Eastern Time on August 24, 2022. Written comments should be directed to the DFO as it relates to Executive Committee and the Board meeting work referencing the relevant agenda item in this notice. Information on the Governing Board, its membership, and its work can be found at www.nagb.gov.

Access to Records of the Meeting: Pursuant to the FACA requirements, the public may inspect the meeting minutes for the Executive Committee meeting at www.nagb.gov, which will be available no later than five business days after the meeting.

Electronic Access to this Document: The official version of this document is published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Public Law 107-279, Title III, § 301—National Assessment of Educational Progress Authorization Act (20 U.S.C 9621).

Lisa Hill,
Deputy Executive Director, National Assessment Governing Board (NAGB), U.S. Department of Education.

[FR Doc. 2022-17951 Filed 8-23-22; 8:45 am]

BILLING CODE 4000-01-P